NUCLEAR REGULATORY COMMISSION

Sunshine Act Meeting

DATE: Weeks of May 20, 27, June 3, 10, 17, 24, 2002.

PLACE: Commissioners' Conference Room, 11555 Rockville Pike, Rockville, Maryland.

STATUS: Public and Closed.

MATTERS TO BE CONSIDERED:

Week of May 20, 2002

There are no meetings scheduled for the Week of May 20, 2002.

Week of May 27, 2002.

Tuesday, May 28, 2002

9:30 a.m.—Discussion of Security Issues (Closed—Ex. 1)

Wednesday, May 29, 2002

9:25 a.m.—Affirmation Session (Public Meeting) (if needed)

9:30 a.m.—Briefing on the Status of New Reactor Licensing Activities (Public Meeting) (Contact: Joseph Williams, 301-415-1470)

This meeting will be webcast live at the Web address— www.nrc.gov

Week of June 3, 2002—Tentative

Friday, June 7, 2002

9:00 a.m.—Briefing on Strategic Workforce Planning and Human Capital Initiatives (Closed—Ex. 2)—New Date, originally scheduled for June 6, 2002)

Week of June 10, 2002—Tentative

There are no meetings scheduled for the Week of June 10, 2002.

Week of June 17, 2002, 2002—Tentative

There are no meetings scheduled for the Week of June 17, 2002.

Week of June 24, 2002—Tentative

10:30 a.m.—All Employees Meeting (Public Meeting)

1:30 p.m.—All Employees Meeting (Public Meeting)

*The schedule for Commission meetings is subject to change on short notice. To verify the status of meetings call (recording—(301) 415-1292. Contact person for more information David Louis Gamberoni (301) 415-1651.

The NRC Commission Meeting Schedule can be found on the Internet at: www.nrc.gov/what-we-do/policy-making/schedule.html

This notice is distributed by mail to several hundred subscribers; if you no longer wish to receive it, or would like to be added to the distribution, please contact the Office of the Secretary, Washington, DC 20555 (301-415-1969). In addition, distribution of this meeting notice over the Internet sysetm if available. If you are interested in receiving this Commission meeting schedule electronically, please send an electronic message to dkw@nrc.gov.

Dated: May 16, 2002.
David Louis Gamberoni,
Technical Coordinator, Office of the Secretary.

[FR Doc. 02-12822 Filed 5-17-02; 8:45 am]

BILLING CODE 7590-01-M